ENVIRONMENTAL PROTECTION AGENCY

[FRL-8567-3]

Meeting of the Local Government Advisory Committee

AGENCY: Environmental Protection Agency.

ACTION: Notice.

SUMMARY: The Local Government Advisory Committee (LGAC) and the Small Community Advisory Subcommittee (SCAS) will meet on June 11-12th, 2008 in Seattle, Washington. The Committee and Subcommittee will be meet at The Red Lion Hotel, located at 1415 5th Avenue, Seattle, WA. The focus areas of the meeting(s) will be: climate change, green buildings, watersheds and coastline issues, small communities issues, military issues, and other environmental issues potentially affecting local governments.

This is an open meeting and all interested persons are invited to attend. The Committee will hear comments from the public between 11:30 a.m. and 12 p.m. on Wednesday, June 11, 2008. Each individual or organization wishing to address the LGAC meeting will be allowed a maximum of five minutes to present their point of view. Also, written comments may be submitted electronically to Eargle.Frances@epa.gov. Please contact the Designated Federal Officer (DFO) at the number listed below to schedule agenda time. Time will be allotted on a first come, first serve basis, and the total period for comments may be extended, if the number of requests for appearances require it.

ADDRESSES: The LGAC meeting will be held at The Red Lions Hotel, located at 1415 5th Avenue, June 11-12.

The Committee's and Subcommittee's Meeting Summaries will be available after the meeting online at http://www.epa.gov/ocir/scas and can be obtained by written request to the DFO.

FOR FURTHER INFORMATION CONTACT: Frances Eargle, DFO for the Local Government Advisory Committee (LGAC), at (202) 564-3115 or e-mail at Eargle.Frances@epa.gov. For those interested in participating in the Small Community Subcommittee meeting, contact Javier Araujo at (202) 564-2642 or by e-mail at Araujo.Javier@epa.gov.

Information on Services for Those With Disabilities: For information on access or services for individuals with disabilities, please contact Frances Eargle at (202) 564-3115 or Eargle.Frances@epa.gov. To request accommodation of a disability, please request it 10 days prior to the meeting, to give EPA as much time as possible to process your request.

Dated: May 8, 2008.
M. Frances Eargle,
Designated Federal Officer, Local Government Advisory Committee.

[FR Doc. E8-11175 Filed 5-16-08; 8:45 am]

BILLING CODE 6560-50-P